NATIONAL FOUNDATION ON THE ARTS AND THE HUMANITIES

National Endowment for the Arts

National Council on the Arts 189th Meeting

AGENCY: National Endowment for the Arts, National Foundation on the Arts and Humanities.

ACTION: Notice of meeting,

SUMMARY: Pursuant to section 10 (a) (2) of the Federal Advisory Committee Act (Pub. L. 92-463), as amended, notice is hereby given that a meeting of the National Council on the Arts will be held in Conference Rooms A & B at Constitution Center, 400 7th St. SW., Washington, DC 20506. Agenda times are approximate.

DATES: Friday, October 28, 2016 from 9:00 a.m. to 11:45 a.m.

FOR FURTHER INFORMATION CONTACT: Office of Public Affairs, National Endowment for the Arts, Washington, DC 20506, at 202/682-5570.

SUPPLEMENTARY INFORMATION: The meeting, on October 28th in Conference Rooms A & B, from 9:30 a.m. to 11:45 a.m., will be open to the public on a space available basis. The tentative agenda is as follows: The meeting will begin at 9:00 a.m. with opening remarks and voting on recommendations for funding and rejection and guidelines, followed by updates from the Chairman. There also will be the following presentations (times are approximate): from 9:30 a.m. to 10:00 a.m.—Presentation on the New Museum innovation incubator programs (Lisa Phillips, Director of the New Museum); from 10:00 a.m. to 10:30 a.m.—Presentation on NEXUS of Engineering and the Arts at the University of Iowa (Deanne Wortman, Director of NEXUS Engineering and Art); from 10:30 a.m.-11:00 a.m.—Presentation on therapeutic music for the aging population (Dan Cohen, Founder and Executive Director of Music & Memory); from 11:00 a.m.-11:30 a.m.—Presentation on the Founding of Kickstarter (Yancey Strickler, Co-Founder and CEO of Kickstarter). From 11:30-11:45 a.m. there will be concluding remarks from the Chairman and announcement of voting results. The meeting will adjourn at 11:45 a.m.

The meeting also will be webcast. To register to watch the webcasting of this open session, go to: https://www.arts.gov/event/2016/national-council-arts-october-2016-public-meeting.

If, in the course of the open session discussion, it becomes necessary for the Council to discuss non-public commercial or financial information of intrinsic value, the Council will go into closed session pursuant to subsection (c)(4) of the Government in the Sunshine Act, 5 U.S.C. 552b, and in accordance with the February 15, 2012 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, 1100 Pennsylvania Avenue NW., Washington, DC 20506, 202/682-5733, Voice/T.T.Y. 202/682-5496, at least seven (7) days prior to the meeting.

Dated: September 28, 2016.
Kathy Plowitz-Worden,
Panel Coordinator, Office of Guidelines and Panel Operations.

[FR Doc. 2016-23842 Filed 9-30-16; 8:45 am]

BILLING CODE 7537-01-P